DEPARTMENT OF TRANSPORTATION

Federal Aviation Administration

14 CFR Part 39

[Docket No. FAA-2005-20712; Directorate Identifier 2005-CE-15-AD; Amendment 39-14400; AD 2005-25-07]

RIN 2120-AA64

Airworthiness Directives; Raytheon Aircraft Company, Model 390, Premier 1 Airplanes

AGENCY: Federal Aviation Administration (FAA), DOT.

ACTION: Final rule.

SUMMARY: The FAA adopts a new airworthiness directive (AD) for certain Raytheon Aircraft Company (Raytheon), Model 390, Premier 1 airplanes. For certain airplanes, this AD requires you (unless already done) to replace the plastic cover over the air conditioning motor module with a metallic cover and modify the air conditioning compressor motor module electromagnetic interference-radio frequency interference (EMI-RFI) filter located under the cover and reidentify the module part number. For all airplanes, the AD limits future installations of the cover for the air conditioner and the air conditioning compressor motor module. This AD results from reports that the plastic cover over the air conditioning motor module was found melted or burned and that the overheating of the EMI-RFI filter assembly located under the cover caused this damage. We are issuing this AD to prevent the melting or burning of the plastic cover. The burning of the plastic cover could result in a fire.

DATES: This AD becomes effective on January 23, 2006.

As of January 23, 2006, the Director of the Federal Register approved the incorporation by reference of certain publications listed in the regulation.

ADDRESSES: To get the service information identified in this AD, contact Raytheon Aircraft Company, P.O. Box 85, Wichita, Kansas 67201-0085; telephone: (800) 625-7043.

To view the AD docket, go to the Docket Management Facility; U.S. Department of Transportation, 400 Seventh Street, SW., Nassif Building, Room PL-401, Washington, DC 20590-0001 or on the Internet at http://dms.dot.gov. The docket number is FAA-2005-20712; Directorate Identifier 2005-CE-15-AD.

FOR FURTHER INFORMATION CONTACT: Philip Petty, Aerospace Engineer, ACE-119W, Wichita Aircraft Certification Office, 1801 Airport Road, Room 100, Wichita, Kansas 67209; telephone: (316) 946-4139; facsimile: (316) 946-4107.

SUPPLEMENTARY INFORMATION:

Discussion

What events have caused this AD? The FAA has received reports that the plastic cover over the air conditioning motor module for certain Raytheon Aircraft Company (Raytheon), Model 390, Premier 1 airplanes was found melted or burned. The overheating of the electromagnetic interference-radio frequency interference (EMI-RFI) filter assembly located under the plastic cover caused this damage.

Raytheon has developed two partial fixes that together remedy the problem. In February 2005, Raytheon implemented a partial fix to the problem with a service bulletin for the replacement of the plastic cover with a manufactured or a field fabricated metal cover. Raytheon, in June 2005, issued a service bulletin for the modification of the EMI-RFI filter assembly.

What is the potential impact if FAA took no action? The burning of the plastic cover could result in a fire.

Has FAA taken any action to this point? We issued a proposal to amend part 39 of the Federal Aviation Regulations (14 CFR part 39) to include an AD that would apply to certain Raytheon Model 390, Premier 1 airplanes. This proposal was published in the Federal Register as a notice of proposed rulemaking (NPRM) on August 23, 2005 (70 FR 49217). The NPRM proposed for certain airplanes to require you (unless already done) to replace the plastic cover over the air conditioning motor module with a metallic cover and modify the air conditioning compressor motor module electromagnetic interference-radio frequency interference (EMI-RFI) filter located under the cover and reidentify the module part number. For all airplanes, the NPRM proposed to limit future installations of the cover for the air conditioner and the air conditioning compressor motor module.

Comments

Was the public invited to comment? We provided the public the opportunity to participate in developing this AD. The following presents the one comment received on the proposal and FAA's response to the comment:

Comment Issue: Include Parts Manufacture Approval (PMA) Parts Approved by Identicality in the Replacement Parts

What is the commenter's concern? The commenter, the Modification and Replacement Parts Association (MARPA), states:

“The proposed action requires replacing a plastic EMI-RFI filter cover with a metallic cover P/N 390-555015-0001. The problem with requiring the installation of a specific part number to the exclusion of all other part numbers is that such a requirement conflicts with 14 CFR 21.303 (PMA).”

The MARPA requests that the final action include the phrase “or other FAA-approved equivalent part” after the part number.

What is FAA's response to the concern? We agree with the MARPA. The FAA will add the phrase “or FAA-approved equivalent part number”, and add language to cover the PMA replacement parts.

Conclusion

What is FAA's final determination on this issue? We have carefully reviewed the available data and determined that air safety and the public interest require adopting the AD as proposed except for the changes discussed above and minor editorial corrections. We have determined that these changes and minor corrections:

—Are consistent with the intent that was proposed in the NPRM for correcting the unsafe condition; and

—Do not add any additional burden upon the public than was already proposed in the NPRM.

Docket Information

Where can I go to view the docket information? You may view the AD docket that contains information relating to this subject in person at the DMS Docket Offices between 9 a.m. and 5 p.m. (eastern time), Monday through Friday, except Federal holidays. The Docket Office (telephone 1-800-647-5227) is located on the plaza level of the Department of Transportation Nassif Building at the street address stated in ADDRESSES. You may also view the AD docket on the Internet at http://dms.dot.gov.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 100 airplanes in the U.S. registry.

What is the cost impact of this AD on owners/operators of the affected airplanes? We estimate the following costs to do the replacement of the plastic cover with a new manufactured metallic cover (P/N 390-555015-0001 or FAA-approved equivalent part number) that you buy:

Labor cost | Parts cost | Total cost per airplane | Total cost on U.S. operators
1 work hour × $65 = $65 | $600 | $665 | $66,500

We estimate the following costs to do the field fabrication of the metallic cover (P/N 390-555015-0001 or FAA-approved equivalent part number) if you choose not to buy a new metallic cover and the labor for the replacement of the plastic cover:

Labor cost | Parts cost | Total cost per airplane | Total cost on U.S. operators
16 work hour × $65 = $1,040 | $20 | $1,060 | $106,000

We estimate the following costs to modify the air conditioning compressor motor module EMI-RFI filter and reidentify the module part number:

Labor cost | Parts cost | Total cost per airplane | Total cost on U.S. operators
2 work hours × $65 = $130 | $600 | $730 | $73,000

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the National Government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-20712; Directorate Identifier 2005-CE-15-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-25-07 Raytheon Aircraft Company: Amendment 39-14400; Docket No. FAA-2005-20712; Directorate Identifier 2005-CE-15-AD.

When Does This AD Become Effective?

(a) This AD becomes effective on January 23, 2006.

What Other ADs Are Affected By This Action?

(b) None.

What Airplanes Are Affected by This AD?

(c) This AD applies to the following airplane models and serial numbers that are certificated in any category:

(1) Group 1: Raytheon Aircraft Company, Model 390, Premier 1 Airplanes, serial numbers RB-1, RB-4 through RB-101, RB-103 through RB-119, and RB-121, that have not replaced the plastic cover over the compressor motor module with a metallic one (part number (P/N) 390-555015-0001 or FAA-approved equivalent part number).

(2) Group 2: Raytheon Aircraft Company, Model 390, Premier 1 Airplanes, serial numbers RB-1, RB-4 through RB-101, RB-103 through RB-119, and RB-121, that have installed the metallic cover (P/N 390-555015-0001 or FAA-approved equivalent part number).

(3) Group 3: Raytheon Aircraft Company, Model 390, Premier 1 Airplanes, serial numbers RB-120 and RB-122 through RB-129.

What Is the Unsafe Condition Presented in This AD?

(d) This AD is the result of reports that the plastic cover over the air conditioning motor module was found melted or burned and that the overheating of the electromagnetic interference-radio frequency interference (EMI-RFI) filter assembly located under the cover caused this damage. The actions specified in this AD are intended to prevent the melting or burning of the plastic cover. The burning of the plastic cover could result in a fire.

Note: 14 CFR 21.303 allows for replacement parts through parts manufacturer approval (PMA). The phrase “or FAA-approved equivalent part number” in paragraphs (e), (f), and (g) of this AD is intended to signify those parts that are PMA parts approved through identicality to the design of the replacement parts to correct the unsafe condition. Equivalent replacement parts to correct the unsafe condition under PMA (other than identicality) may also be installed provided they meet current airworthiness standards, which include those actions cited in this AD.

What Must I Do To Address This Problem?

(e) What actions must I do to address this problem for Group 1 airplanes? To address this problem for Group 1 airplanes, you must do the following:

Actions | Compliance | Procedures
(1) Air Conditioning Motor Module Cover Replacement: Replace the plastic cover over the air conditioning motor module with a new or fabricated metallic cover. Use Raytheon part number (P/N) 390-555015-0001 or an FAA-approved equivalent part number | Within 30 days after January 23, 2006 (the effective date of this AD), unless already done | Follow Raytheon Aircraft Company Service Bulletin No. SB 21-3715, dated February 2005.
(2) Air Conditioning Compressor Motor Module EMI-RFI Filter Modification: Modify the air conditioning motor module EMI-RFI filter and reidentify the module part number with a P/N 390-385026-0003 module | Within 30 days after January 23, 2006 (the effective date of this AD), unless already done | Follow Raytheon Aircraft Company Service Bulletin No. SB 21-3733, dated June 2005, and Enviro Systems, Inc. Service Bulletin No. SB05-101, Revision B, dated April 27, 2005.
(3) Future Installations—Cover for Air Conditioner: You must only install a metal cover, P/N 390-555015-0001 or FAA-approved equivalent part number, over the air conditioning motor module. This is mandatory equipment | As of January 23, 2006 (the effective date of this AD) | Follow Raytheon Aircraft Company Service Bulletin No. SB 21-3715, dated February 2005.
(4) Future Installations—Air Conditioning Compressor Motor Module: Do not install any compressor motor module, P/N 390-385026-0001 or FAA-approved equivalent part number | As of January 23, 2006 (the effective date of this AD) | Not Applicable.

(f) What actions must I do to address this problem for Group 2 airplanes? To address this problem for Group 2 airplanes, you must do the following:

Actions | Compliance | Procedures
(1) Air Conditioning Compressor Motor Module EMI-RFI Filter Modification: Modify the air conditioning motor module EMI-RFI filter and reidentify the module part number with a P/N 390-385026-0003 module | Within 60 days after January 23, 2006 (the effective date of this AD), unless already done | Follow Raytheon Aircraft Company Service Bulletin No. SB 21-3733, dated June 2005; and Enviro Systems Inc. Service Bulletin No. SB05-101, Revision B, dated April 27, 2005.
(2) Future Installations—Cover for Air Conditioner: You must only install a metal cover, P/N 390-555015-0001 or FAA-approved equivalent part number, over the air conditioning motor module. This is mandatory equipment | As of January 23, 2006 (the effective date of this AD) | Follow Raytheon Aircraft Company Service Bulletin No. SB 21-3715, dated February 2005.
(3) Future Installations—Air Conditioning Compressor Motor Module: Do not install any compressor motor module, P/N 390-385026-0001 or FAA-approved equivalent part | As of January 23, 2006 (the effective date of this AD) | Not Applicable.

(g) What actions must I do to address this problem for Group 3 airplanes? To address this problem for Group 3 airplanes, you must do the following:

Actions | Compliance | Procedures
(1) Air Conditioning Compressor Motor Module EMI-RFI Filter Modification: Modify the air conditioning motor module EMI-RFI filter and reidentify the module part number with a P/N 390-385026-0003 module | Within 60 days after January 23, 2006 (the effective date of this AD), unless already done | Follow Raytheon Aircraft Company Service Bulletin No. SB 21-3733, dated June 2005; and Enviro Systems Inc. Service Bulletin No. SB05-101, Revision B, dated April 27, 2005.
(2) Future Installations—Cover for Air Conditioner: You must only install a metal cover, P/N 390-555015-0001 or FAA-approved equivalent part number, over the air conditioning motor module. This is mandatory equipment | As of January 23, 2006, (the effective dae of this AD) | Follow Raytheon Aircraft Company Service Bulletin No. SB 21-3715, dated February 2005.
(3) Future Installations—Air Conditioning Compressor Motor Module: Do not install any compressor motor module, P/N 390-385026-0001 or FAA-approved equivalent part number | As of January 23, 2006 (the effective date of this AD) | Not Applicable.

May I Request an Alternative Method of Compliance?

(h) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Philip Petty, Aerospace Engineer, ACE-119W, Wichita ACO, 1801 Airport Road, Room 100, Wichita, Kansas 67209; telephone: (316) 946-4139; facsimile: (316) 946-4107.

Does This AD Incorporate Any Material by Reference?

(i) You must do the actions required by this AD following the instructions in Raytheon Aircraft Company Service Bulletin No. SB 21-3715, dated February 2005; Raytheon Aircraft Company Service Bulletin No. SB 21-3733, dated June 2005; and Enviro Systems Inc. Service Bulletin No. SB05-101, Revision B, dated April 27, 2005. The Director of the Federal Register approved the incorporation by reference of these service bulletins in accordance with 5 U.S.C. 552(a) and 1 CFR part 51. To get a copy of this service information, contact Raytheon Aircraft Company, P.O. Box 85, Wichita, Kansas 67201-0085; telephone: (800) 625-7043. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-20712; Directorate Identifier 2005-CE-15-AD.

Issued in Kansas City, Missouri, on November 30, 2005.
David R. Showers,
Acting Manager, Small Airplane Directorate, Aircraft Certification Service.

[FR Doc. 05-23773 Filed 12-9-05; 8:45 am]

BILLING CODE 4910-13-P